COMMITTEE FOR THE IMPLEMENTATION OF TEXTILE AGREEMENTS

Denial of Participation in the Special Access Program

October 2, 2001.

AGENCY: Committee for the Implementation of Textile Agreements (CITA).

ACTION: Issuing a directive to the Commissioner of Customs suspending participation in the Special Access Program.

EFFECTIVE DATE: October 8, 2001.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

The Committee for the Implementation of Textile Agreements (CITA) has determined that The Isfel Company has violated the requirements for participation in the Special Access Program, and has suspended The Isfel Company from participation in the Program for the two-year period October 8, 2001 through October 7, 2003.

Through the letter to the Commissioner of Customs published below, CITA directs the Commissioner to prohibit entry of products under the Special Access Program by or on behalf of The Isfel Company during the period October 8, 2001 through October 7, 2003, and to prohibit entry by or on behalf of The Isfel Company under the Program of products manufactured from fabric exported from the United States during that period.

Requirements for participation in the Special Access Program are available in Federal Register notice 63 FR 16474, published on April 3, 1998.

D. Michael Hutchinson,
Acting Chairman, Committee for the Implementation of Textile Agreements.

Committee for the Implementation of Textile Agreements

October 2, 2001.

Commissioner of Customs,

Department of the Treasury, Washington, DC 20229.

Dear Commissioner: The purpose of this directive is to notify you that the Committee for the Implementation of Textile Agreements has suspended The Isfel Company from participation in the Special Access Program for the period October 8, 2001 through October 7, 2003. You are therefore directed to prohibit entry of products under the Special Access Program by or on behalf of The Isfel Company during the period October 8, 2001 through October 7, 2003. You are further directed to prohibit entry of products under the Special Access Program by or on behalf of The Isfel Company manufactured from fabric exported from the United States during the period October 8, 2001 through October 7, 2003.

Sincerely,

D. Michael Hutchinson,

Acting Chairman, Committee for the Implementation of Textile Agreements.

[FR Doc. 01-25092 Filed 10-4-01; 8:45 am]

BILLING CODE 3510-DR-S